NATIONAL SCIENCE FOUNDATION

Advisory Committee for Biological Sciences; Notice of Meeting

In accordance with the Federal Advisory Committee Act (Pub. L. 92-463, as amended), the National Science Foundation announces the following meeting:

Name: Advisory Committee for Biological Sciences (#1110).

Date and Time: September 28, 2015 8:30 a.m.-5:00 p.m.; September 29, 2015 8:30 a.m.-4:00 p.m.

Place: National Science Foundation 4201 Wilson Boulevard, Room 1235, Arlington, VA 22230.

Please contact Maria Sutton at msutton@nsf.gov to obtain a visitor badge. All visitors to the NSF will be required to show photo ID to obtain a badge.

Type of Meeting: OPEN.

Contact Person: Charles Liarakos, Program Director, National Science Foundation, 4201 Wilson Boulevard, Room 605, Arlington, VA 22230; Tel No. (703) 292-8400.

Purpose of Meeting: The Advisory Committee for the Directorate for Biological Sciences (BIO) provides advice, recommendations, and oversight concerning major program emphases, directions, and goals for the research-related activities of the divisions that make up BIO.

Agenda: Agenda items will include BIO programs that contribute to biological research at the nexus of food, energy and water (INFEWS), NEON science, the Division of Environmental Biology COV Report, diversity in biology graduate education, and other matters relevant to the Directorate for Biological Sciences.

Dated: August 31, 2015.
Crystal Robinson,
Committee Management Officer.

[FR Doc. 2015-21927 Filed 9-2-15; 8:45 am]

BILLING CODE 7555-01-P